DEPARTMENT OF HEALTH AND HUMAN SERVICES

National Institutes of Health

Center for Scientific Review; Cancellation of Meeting

Notice is hereby given of the cancellation of the Center for Scientific Review Special Emphasis Panel, February 27, 2006, 10 a.m. to February 27, 2006, 11 a.m., National Institutes of Health, 6701 Rockledge Drive, Bethesda, MD, 20892 which was published in the Federal Register on February 8, 2006, 71 FR 6512-6515.

The meeting is cancelled due to the application being withdrawn.

Dated: February 15, 2006.
Anna Snouffer,
Acting Director, Office of Federal Advisory Committee Policy.

[FR Doc. 06-1688 Filed 2-22-06; 8:45 am]

BILLING CODE 4140-01-M